DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for the Downtown Boise Multimodal Center Project, Boise, Idaho; Ketchikan Shipyard Improvement Project, Ketchikan, Alaska; Colorado Springs Transportation Station, Colorado Springs, Colorado; and Central Corridor Light Rail Transit Project, Minneapolis-St. Paul, Minnesota. The purpose of this notice is to announce publicly the environmental decisions by FTA on the subject projects and to activate the limitation on any claims that may challenge these final environmental actions.

DATES: By this notice, FTA is advising the public of final agency actions subject to section 139(l) of Title 23, United States Code (U.S.C.). A claim seeking judicial review of the FTA actions announced herein for the listed public transportation projects will be barred unless the claim is filed on or before March 1, 2010.

FOR FURTHER INFORMATION CONTACT: Carl Bausch, Environmental Protection Director, Office of Planning and Environment, 202-366-1626, or Christopher Van Wyk, Attorney-Advisor, Office of Chief Counsel, 202-366-1733. FTA is located at 1200 New Jersey Avenue, SE., Washington, DC 20590. Office hours are from 9 a.m. to 5:30 p.m. EST, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the project. The final agency environmental decision document—a Record of Decision (ROD) or Finding of No Significant Impact (FONSI)—for each listed project is available online at http://www.fta.dot.gov/planning/environment/planning_environment_documents.html or may be obtained by contacting the FTA Regional Office for the metropolitan area where the project is located. Contact information for FTA's Regional Offices may be found at http://www.fta.dot.gov.

This notice applies to all FTA decisions on the listed projects as of the issuance date of this notice and all laws under which such actions were taken, including, but not limited to, NEPA [42 U.S.C. 4321-4375], section 4(f) of the Department of Transportation Act of 1966 [49 U.S.C. § 303], section 106 of the National Historic Preservation Act [16 U.S.C. 470f], and the Clean Air Act [42 U.S.C. 7401-7671q]. This notice does not, however, alter or extend the limitation period of 180 days for challenges of project decisions subject to previous notices published in the Federal Register.

The projects and actions that are the subject of this notice are:

1. Project name and location: Downtown Boise Multimodal Center Project, Boise Idaho. Project sponsor: Valley Regional Transit. Project description: The multimodal center will be located on the ½-block site east of North 11th Street, between West Idaho and West Bannock Streets in the western part of the Boise central business district. The multimodal center will include off- and on-street bus bays (12 bays total), a passenger plaza and sheltered waiting areas, transit information kiosks, public restrooms and operator break facilities, bicycle storage, public art, vanpool and carpool drop-off/pick-up areas, a taxi stand and auto drop-off/pick-up area, and retail space. In addition, a planned joint development component of the project would include air space development above the multimodal facility for parking. The parking structure would include approximately 500 parking spaces in a new five- to six-story parking structure. Final agency actions: Section 106 finding of no adverse effect; project-level air quality conformity determination; no use of section 4(f) properties; and a FONSI dated July 2009. Supporting documentation: Downtown Boise Multimodal Center Environmental Assessment (EA) dated June 2009.

2. Project name and location: Ketchikan Shipyard Improvement Project, Ketchikan, Alaska. Project sponsor: Alaska Industrial Development and Export Authority (AIDEA). Project description: The Ketchikan Shipyard Improvement Project (the Project) in Ketchikan, Alaska will implement planned improvements to the Ketchikan Shipyard, which is used to maintain the Alaska Marine Highway System fleet. These improvements include two new enclosed work halls; a production complex; a steel fabrication shop; improvements to the existing paint and blasting facilities; new operations and business buildings; installation of a new oily water separator and wastewater treatment facility; warehouse and hazardous material storage building expansions; installation of guard shacks, fencing and modifications to existing fencing for security purposes; utilities upgrades; and improvements to traffic flow in and around the facility. The Project would provide a broad mix of repairs of existing facilities and new construction and would enable the shipyard to meet the needs of the publicly owned marine transit system. Final agency actions: Section 106 determination of no historic properties affected, March 27, 2009; no use of section 4(f) property; and FONSI dated July 16, 2009. Supporting documentation: EA for the Ketchikan Shipyard Improvement Project signed June 12, 2009.

3. Project name and location: Colorado Springs Downtown Transportation Station, Colorado Springs, Colorado. Project sponsor: City of Colorado Springs Transit Services Division-Mountain Metropolitan Transit. Project description: The project involves the construction of a new downtown transportation station, located southwest of the existing station at South Sierra Madre Street and West Vermijo Avenue, to serve the City's Mountain Metropolitan Transit fixed-route (Metro) service. It will provide access and serve as a convenient multimodal transfer point for the Front Range Express (FREX) commuter bus service, proposed streetcar, proposed Front Range Commuter Rail, and other travel modes. Final agency actions: Section 106 determination of no historic properties affected; project-level air quality conformity determination; and FONSI dated July 14, 2009. Supporting documentation: EA for the Colorado Springs Downtown Station dated June 1, 2009.

4. Project name and location: Central Corridor Light Rail Transit Project, Minneapolis-St. Paul, Minnesota. Project sponsor: Metropolitan Council. Project description: The project entails the construction of 10.9 miles of light rail transit (LRT) between St. Paul and Minneapolis with service to the University of Minnesota and the State Capitol complex, including 9.7 miles of newly constructed guideway and 1.2 miles shared with the existing Hiawatha LRT. There will be twenty stations along the line including five shared with the existing Hiawatha LRT. The project will be primarily at-grade except for a new aerial structure over Interstate Highway I-35W, the use of existing bridges over Trunk Highway 280 (TH 280) and Interstate Highway I-94, and the existing Washington Avenue Bridge over the Mississippi River. Below grade infrastructure to allow for later construction of three future infill stations will be provided and an operations and maintenance facility will be constructed. The project will also include modifications to the Washington Avenue Bridge over the Mississippi River to improve current bridge conditions and to provide for LRT operations, and conversion of Washington Avenue on the University of Minnesota's East Bank Campus to a transit/pedestrian mall extending from Walnut Street to Pleasant Street. Final agency actions: Section 106 Programmatic Agreement dated June 15, 2009; section 4(f) findings; project-level air quality conformity determination; and Record of Decision dated August 18, 2009. Supporting documentation: Central Corridor Light Rail Transit Project Final Environmental Impact Statement dated June 18, 2009.

Issued on August 27, 2009.
Susan Borinsky,
Associate Administrator for Planning and Environment, Washington, DC.

[FR Doc. E9-21199 Filed 9-1-09; 8:45 am]

BILLING CODE 4910-57-P